DEPARTMENT OF JUSTICE

[OMB Number 1103-0118]

Agency Information Collection Activities; Proposed eCollection eComments Requested; Extension of a Previously Approved Collection; Tribal Access Program Application

AGENCY: Office of the Chief Information Officer, Department of Justice.

ACTION: 30-Day notice.

SUMMARY: The Office of the Chief Information Officer, Department of Justice (DOJ), will be submitting the following information collection request to the Office of Management and Budget (OMB) for review and approval in accordance with the Paperwork Reduction Act of 1995. The proposed information collection was previously published in the Federal Register on March 15, 2024, allowing a 60-day comment period.

DATES: Comments are encouraged and will be accepted for 30 days until July 1, 2024.

FOR FURTHER INFORMATION CONTACT: If you have comments especially on the estimated public burden or associated response time, suggestions, or need a copy of the proposed information collection instrument with instructions or additional information, please contact: Allison Spratlin, Program Manager, 145 N Street NW, Washington, DC 20530; (202)532-5047; Allison.spratlin@usdoj.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number [OMB Number 1103-0118]. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Extension of a previously approved collection.

2. Title of the Form/Collection: Tribal Access Program Application.

3. Agency form number, if any, and the applicable component of the Department of Justice sponsoring the collection: There is no agency form number for this collection. The applicable component within the Department of Justice is Office of the Chief Information Officer.

4. Affected public who will be asked or required to respond, as well as a brief abstract: Affected Public: Federally recognized Tribes. The obligation to respond is voluntary.

Abstract: The U.S. Department of Justice (DOJ) launched the Tribal Access Program for National Crime Information (TAP) provide Tribes access to national crime information systems for both criminal justice and non-criminal justice purposes. DOJ has developed an application for use by federally recognized Tribes interested in participating in TAP.

5. Obligation to Respond: Voluntary to obtain a benefit.

6. Total Estimated Number of Respondents: The estimated number of respondents for this collection is 50.

7. Estimated Time per Respondent: The total annual burden hours for this collection is 50 hours.

8. Frequency: Annually.

9. Total Estimated Annual Time Burden: The total annual burden hours for this collection is 50 hours.

10. Total Estimated Annual Other Costs Burden: $0.

Activity | Number of respondents | Frequency (annually) | Total annual responses | Time per response (hours) | Total annual burden (hours)
TAPS Application | 50 | 1 | 50 | 1 | 50
Totals | 50 |  | 50 |  | 50

If additional information is required, contact: Darwin Arceo, Department Clearance Officer, Policy and Planning Staff, Justice Management Division, United States Department of Justice, Two Constitution Square, 145 N Street NE, 4W-218 Washington, DC 20530.

Dated: May 23, 2024.
Darwin Arceo,
Department Clearance Officer for PRA, U.S. Department of Justice.

[FR Doc. 2024-11831 Filed 5-29-24; 8:45 am]

BILLING CODE 4410-ML-P